DEPARTMENT OF AGRICULTURE

Forest Service

Douglas Project Area Environmental Impact Statement

AGENCY: Forest Service, USDA.

ACTION: Notice of intent to prepare an environmental impact statement.

SUMMARY: The Department of Agriculture, Forest Service, will prepare an Environmental Impact Statement (EIS) to provide a supply of timber for the Tongass National Forest timber sale program, to identify recreation opportunities and to develop a road management plan for the forest roads connected to the City of Kake. The Record of Decision will disclose where, if any, the Forest Service has decided to provide timber harvest units, associated timber harvesting facilities, identify dispersed recreation opportunities and propose any changes to the existing forest road system. The proposed action is to harvest timber on an estimated 1,600 acres and to provide multiple timber sale opportunities for a total of approximately 35 million board feet (mmbf) of timber. Timber harvest will be accomplished using a variety of silvicultural prescriptions and harvest methods to meet the standards and guidelines of the Tongass Forest Plan. This project would include the construction of up to 30 miles of road and may include one new log transfer facility (LTF) within the project area. This project may also include an analysis and decision for a nonsignificant amendment to the Forest Plan to revise the location of small Old Growth Reserve(s) within the project area. Recreational opportunities for enhancement may include dispersed sites for camping, and improved access for hunting and subsistence users. A road management plan will be developed to safely accommodate public traffic. A range of alternatives responsive to significant issues will be developed and will include a no-action alternative. The Douglas project area is approximately 95,500 acres in size and is located in Value Comparison Units 430, 431, 432, 433 and a portion of 429 on Kupreanof Island, Alaska, on the Petersburg Ranger District of the Tongass National Forest. The project area is within an Inventoried Roadless Area (South Kupreanof #214 as identified by the Tongass Land and Resource Management Plan).

DATES: Comments concerning the scope of this project should be received by July 7, 2000 (30 days from expected publication).

ADDRESSES: Please send written comments to the Petersburg Ranger District, Tongass National Forest; Attn: Dan McMahon; Douglas Project Area EIS; PO Box 1328; Petersburg, AK 99833. The FAX number is (907) 772-5995.

FOR FURTHER INFORMATION CONTACT: Questions about the proposal and EIS should be directed to Patricia Grantham, District Ranger, Petersburg Ranger District, Tongass National Forest, PO Box 1328, Petersburg, AK 99833; telephone (907) 772-3871 or Dan McMahon, Interdisciplinary Team Leader, Petersburg Ranger District, PO Box 1328, Petersburg, AK 99833; telephone (907) 772-3871.

SUPPLEMENTARY INFORMATION: Public participation has been an integral component of the study process and will be especially important at several points during the analysis. During the last year, the Forest Service has been seeking information, comments, and assistance from Federal, State, and local agencies Federally-recognized Indian tribes, and individuals and organizations that may be interested in, or affected by, the proposed activities. Written scoping comments have been solicited through an informal scoping package that was sent to the project mailing list and available at open houses in Petersburg and Kake, Alaska. The scoping process includes: (1) Identification of potential issues; (2) identification of issues to be analyzed in depth; and (3) elimination of insignificant issues or those which have been covered by a previous environmental review. For the Forest Service to best use the scoping input, comments should be received by July 7, 2000 (30 days from expected publication).

Based on results of scoping and the resource capabilities within the project area, alternatives including a “no action” alternative will be developed for the Draft Environmental Impact Statement. The Draft Environmental Impact Statement is projected to be filed with the Environmental Protection Agency (EPA) in the summer of 2000. Subsistence hearings as provided for in Title VIII, Section 810 of the Alaska National Interest Lands Conservation Act (ANILCA), will occur, if necessary, during the comment period on the Draft Environmental Impact Statement. The Final Environmental Impact Statement and Record of Decision are anticipated to be published in March, 2001.

The comment period on the Draft Environmental Impact Statement will be 45 days from the date the Environmental Protection Agency publishes the notice of availability in the Federal Register.

The Forest Service believes, at this early stage, it is important to give reviewers notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553, (1978). Environmental objections that could have been raised at the Draft Environmental Impact Statement stage may be waived or dismissed by the courts. City of Angoon v. Hodel, 803 F.2nd 1016, 1022 (9th Cir. 1986) and Wisconsin Heritages, Inc. v. Harris, 490 F. Supp. 1334 (E.D. Wis. 1980). Because of these court rulings, it is very important that those interested in this proposed action participate by the close of the 45-day comment period so that substantive comments and objections are made available to the Forest Service at a time when it can meaningfully consider them and respond to them in the Final Environmental Impact Statement.

To assist the Forest Service in identifying and considering issues and concerns of the proposed action, comments during scoping and comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits required for implementation include the following:

1. U.S. Army Corps of Engineers.

—Approval of discharge of dredged or fill material into the waters of the United States under Section 404 of the Clean Water Act;

—Approval of the construction of structures or work in navigable waters of the United States under Section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification)

Responsible Official: Carol Jorgensen, Assistant Forest Supervisor, Tongass National Forest, PO Box 309, Petersburg, Alaska 99833, is the responsible official. The responsible official will consider the comments, response, disclosure of environmental consequences, and applicable laws, regulations, and policies in making the decision and stating the rationale in the Record of Decision.

Dated: May 22, 2000.
Carol J. Jorgensen,
Assistant Forest Supervisor.

[FR Doc. 00-14065 Filed 6-5-00; 8:45 am]

BILLING CODE 3410-11-M